DEPARTMENT OF TRANSPORTATION

Federal Transit Administration

FTA Fiscal Year 2020 Apportionments, Allocations and Program Information

AGENCY: Federal Transit Administration (FTA), DOT.

ACTION: Notice.

SUMMARY: This notice provides priorities for programs in Fiscal Year (FY) 2020, announces the full-year apportionments and allocations for grant programs, provides contract authority, and describes plans for several competitive programs.

FOR FURTHER INFORMATION CONTACT: For general information about this notice, contact Kimberly Sledge, Deputy Associate Administrator, Office of Program Management, at (202) 366-2053. Please contact the appropriate FTA Regional Office for any specific requests for information or technical assistance. FTA Regional Office contact information is available on FTA's website: www.transit.dot.gov. An FTA headquarters contact for each major program area is included in the discussion of that program in the text of this notice. FTA recommends stakeholders subscribe on FTA's website: www.transit.dot.gov to receive email notifications when new information is available.

SUPPLEMENTARY INFORMATION:

Table of Contents

I. Overview

II. FY 2020 Funding for FTA Programs

A. Funding Available Under the Further Consolidated Appropriations Act, 2020

B. Oversight Takedown

C. FY 2020 Formula Apportionments: Data and Methodology

III. FY 2020 Program Highlights

A. Emergency Relief Docket

B. Policy Priorities

1. Accelerating Innovative Mobility (AIM)

2. Public Transportation Agency Safety Plans

3. Value Capture

4. Coordinating Council on Access and Mobility

5. Rural Opportunities to Use Transportation for Economic Success (ROUTES)

6. Opportunity Zones

C. FY 2020 Competitive Program Funding

D. National Defense Authorization Act for FY 2020

IV. FY 2020 Program-Specific Information

A. Metropolitan Planning Program (49 U.S.C. 5303 and 5305(d))

B. State Planning and Research Program (49 U.S.C. 5304 and 5305(e))

C. Urbanized Area Formula Program (49 U.S.C. 5307)

D. Fixed Guideway Capital Investment Grants Program (49 U.S.C. 5309)

E. Formula Grants for the Enhanced Mobility of Seniors and Individuals With Disabilities Program (49 U.S.C. 5310)

F. Formula Grants for Rural Areas Program (49 U.S.C. 5311)

G. Rural Transportation Assistance Program (49 U.S.C. 5311(b)(3))

H. Appalachian Development Public Transportation Assistance Program (49 U.S.C. 5311(c)(2))

I. Public Transportation on Indian Reservations Program (49 U.S.C. 5311(c)(1))

J. Public Transportation Innovation (49 U.S.C. 5312)

K. Technical Assistance and Workforce Development (49 U.S.C. 5314)

L. Public Transportation Emergency Relief Program (49 U.S.C. 5324)

M. State Safety Oversight Formula Program (49 U.S.C. 5329)

N. State of Good Repair Grants Program (49 U.S.C. 5337)

O. Grants for Buses and Bus Facilities Program (49 U.S.C. 5339)

P. Growing States and High-Density States Formula Factors (49 U.S.C. 5340)

Q. Washington Metropolitan Area Transit Authority Grants

V. FY 2020 Grants

A. Automatic Pre-Award Authority to Incur Project Costs

B. Letter of No Prejudice (LONP) Policy

C. FY 2020 Annual List of Certifications and Assurances

D. Civil Rights Requirements

E. Consolidated Planning Grants

F. Grant Application Procedures

I. Overview

This document provides notice to stakeholders that FTA is apportioning the full Fiscal Year (FY) 2020 authorized contract authority through September 30, 2020 for FTA formula and competitive programs pursuant to Division H of the Further Consolidated Appropriations Act, 2020 (Pub. L. 116-94). In addition, this document contains important information about FTA programs, statutory requirements, and policy priorities.

For each FTA program, FTA has provided information on the FY 2020 authorized funding levels, funding availability and the period of availability of funds. A separate section provides information on pre-award authority as well as other requirements applicable to FTA programs and grant administration. Finally, the notice includes a reference to tables on FTA's website that show new contract authority apportioned and made available through September 30, 2020.

Information in this document includes references to existing FTA program guidance and circulars. Some information in FTA's guidance documents and circulars may have been superseded by new provisions in the Fixing America's Surface Transportation (FAST) Act (Pub. L. 114-94), but these guidance documents and circulars remain a resource for program management in most areas.

II. FY 2020 Funding for FTA Programs

A. Funding Available Under the Further Consolidated Appropriations Act, 2020

Division H of the Further Consolidated Appropriations Act, 2020 (Pub. L. 116-94) (“Further Consolidated Appropriations Act, 2020”) makes $12.8 billion in funding available for FTA programs in FY 2020. The Further Consolidated Appropriations Act, 2020 provides $10.15 billion in funding from the Mass Transit Account of the Highway Trust Fund at the amounts authorized by the FAST Act for FY 2020, along with $2.64 billion in general funds including $1.978 billion for Capital Investment Grants, $150 million in additional general contract authority for the Washington Metropolitan Area Transit Authority (WMATA) and $510 million for transit infrastructure grants including: $168 million for Grants for Buses and Bus Facilities formula grants, $170 million for Buses and Bus Facilities competitive grants, $75 million for Low or No Emissions Grants, $40 million for Formula Grants for Rural Areas, $40 million for the Section 5340 High Density States Apportionments, $5.5 million for Section 5312 Public Transportation Innovation, and $3 million for low and no emission vehicle testing facilities. Also included is $8.5 million for new competitive grants in areas of persistent poverty. Current funding availability for each program is identified in section IV of this notice and in Table 1 located on FTA's FY 2020 Apportionment web page: www.transit.dot.gov/funding/apportionments.

B. Oversight Takedown

Section 5338(f) of title 49, United States Code (all subsequent statutory references are to title 49, United States Code unless otherwise noted) provides for the following oversight takedowns of FTA programs: 0.5 percent of Metropolitan and Statewide Planning funds, 0.75 percent of Urbanized Area Formula Grant funds, 1 percent of Fixed Guideway Capital Investment Grants funds, 0.5 percent of Formula Grants for the Enhanced Mobility of Seniors and Individuals with Disabilities funds, 0.5 percent of Formula Grants for Rural Areas funds, 1 percent of State of Good Repair Formula Grants funds, 0.75 percent of Grants for Buses and Bus Facilities funds, and 1 percent of funds for Capital and Preventive Maintenance Projects for grants to the Washington Metropolitan Area Transit Authority. FTA uses the funds to provide necessary oversight activities, such as oversight of the construction of any major capital project receiving Federal public transportation assistance; to conduct State Safety Oversight, drug and alcohol, civil rights, procurement systems, management, planning certification, and financial management reviews and audits; evaluations and analyses of grantee-specific problems and issues; and to generally provide technical assistance and correct deficiencies identified in compliance reviews and audits.

C. FY 2020 Formula Apportionments: Data and Methodology

1. Apportionment Tables

FTA publishes apportionment tables on its website for each program that reflects the funding level in the full-year appropriations act less oversight take-downs, as applicable. FTA has posted tables displaying the funds available to eligible states, tribes, and urbanized areas to www.transit.dot.gov/funding/apportionments. This website contains a page listing the apportionment and allocation tables for FY 2020, links to prior year formula apportionment notices and tables, and the National Transit Database (NTD) and Census data used to calculate the FY 2020 apportionments.

2. National Transit Database (NTD) and Census Data Used in the FY 2020 Apportionments

Consistent with past practices, the apportionments calculations for Sections 5307, 5311 (including 5311(c)(1)), 5329, 5337, and 5339 rely on the most-recent transit service data reported to the NTD, which for FY 2020 is the 2018 report year. In some cases, where an apportionment is based on the age of the system, the age is calculated as of September 30, 2019, the last day before FY 2020 began. Recipients or beneficiaries of either Section 5307 or 5311 funds are required to report to the NTD. Additionally, several transit operators report to the FTA's NTD on a voluntary basis. For the 2018 report year, the NTD includes data from 941 reporters in urbanized areas, 925 of which reported operating transit service. The NTD also includes data from 1,475 providers of rural transit service, which includes 134 Indian Tribes providing transit service.

The 2010 Census data is used to determine population and population density for Sections 5303, 5305, 5307 and 5339 as well as rural population and rural land area for the 5311 program. The formulas for Sections 5307, 5311, and 5311(c)(1) include tiers where funding is allocated based on the number of persons living in poverty, and the Section 5310 formula program allocates funding based on the population of older adults and people with disabilities. The Census Bureau no longer publishes decennial census data on persons living in poverty and persons with disabilities. As a result, since FY 2013, FTA has used the data for these populations available via the Census' American Community Survey (ACS). The NTD and Census data that FTA used to calculate the apportionments associated with this notice can be found on FTA's website: www.transit.dot.gov/funding/apportionments.

The FY 2020 apportionments use data on low-income persons, persons with disabilities, and older adults from the 2013-2017 ACS five-year data set, which was published in December 2018. This data represents the most recent five-year ACS estimates that are available as of October 1 for the year being apportioned. As was the case in prior years, data on low-income persons comes from ACS Table B17024, “Age by Ratio of Income to Poverty in the Last Twelve Months,” and data on people with disabilities under 65 years old comes from ACS Table S1810, “Disability Characteristics.” Data on older adults (over 65 years old) comes from ACS Table B01001, “Sex by Age.”

The Bureau of the Census will carry out the next decennial census in 2020. Data collected during the decennial census impacts the type and amount of funding that FTA recipients are eligible to receive. The Bureau of the Census will issue a list of Urbanized Areas and population statistics based on 2020 Census data. Changes to an area's designation as an urban or rural area will change the grant programs for which recipients in that area are eligible. Changes to the size and population of an area may mean that the area will receive more or less formula funding than it received based on 2010 Census data, or may change whether a recipient receives funding directly from FTA or indirectly from a pass-through entity. It is expected that 2020 Census data will be utilized for FTA funding beginning in FY 2023, after careful processing of the data by the Bureau of the Census, followed by review and evaluation of the data by FTA.

III. FY 2020 Program Highlights

A. Emergency Relief Docket

Pursuant to 49 CFR 601.42, on January 15, 2020 FTA announced the establishment of an Emergency Relief Docket for calendar year 2020. See https://federalregister.gov/d/2020-00539 for more information. After an emergency or major disaster, if FTA requirements impede a recipient's or subrecipient's ability to respond to the emergency or major disaster, a recipient or subrecipient may submit a request for temporary relief from FTA administrative and statutory requirements. A recipient or subrecipient seeking relief must submit a petition for waiver of FTA requirements at www.regulations.gov for posting in the docket (FTA-2020-0001). For additional information on the Emergency Relief Docket, please contact the appropriate FTA Regional Office.

B. Policy Priorities

As FTA implements its programs, it is particularly focused on the following policy priority areas in FY 2020.

1. Accelerating Innovative Mobility

FTA is launching the Accelerating Innovative Mobility (AIM) Initiative to significantly advance the adoption of innovative technologies, practices or service models to improve mobility and the customer experience. Furthermore, the AIM initiative seeks to ensure these new technologies or practices permit interoperability across transit systems.

On March 18, 2020, FTA announced an $11 million Notice of Funding Opportunity under the AIM Initiative to support and advance innovation in the transit industry. AIM challenge grants will help transit agencies explore new service models that provide more efficient and frequent service, which will help retain riders. As a funding partner, FTA will help alleviate the potential risks involved in adopting new technologies and practices.

FTA's Fiscal Year 2020 competitive capital grant programs, which total $615 million, will highlight innovation as part of their selection criteria. This will provide applicants with an opportunity to showcase how they can incorporate new approaches to improve the rider experience. FTA's Technical Assistance Centers will provide targeted technical assistance to deploy successful innovative models and develop case studies and hands-on resources. The centers will hold workshops focused on bringing together transit agencies to discuss best practices, identify barriers, and advance the adoption of new technologies and practices while ensuring safety for riders. More information on the AIM initiative is available at: www.transit.dot.gov/AIM.

2. Public Transportation Agency Safety Plans

The Public Transportation Agency Safety Plan (PTASP) regulation at 49 CFR part 673 requires certain operators of public transportation systems that receive Federal financial assistance under 49 U.S.C. Chapter 53 to draft and certify a Public Transportation Agency Safety Plan (ASP) by July 20, 2020. On April 22, 2020, FTA issued a Notice of Enforcement Discretion to alert transit agencies that, until December 31, 2020, FTA will refrain from taking enforcement action against any FTA recipient or subrecipient subject to the PTASP regulation that is unable to certify that it has established an Agency Safety Plan that complies with the regulation by the July 20 compliance deadline. During this time, the PTASP Technical Assistance Center will remain available to meet grantees' PTASP technical assistance needs.

a. Applicability

The PTASP regulation applies to all operators of public transportation systems that are recipients and sub-recipients of federal financial assistance under the Urbanized Area Formula Program (49 U.S.C. 5307) and rail transit agencies that are subject to FTA's State Safety Oversight Program. FTA has deferred applicability of Part 673 for operators that only receive funds through FTA's Formula Grants for the Enhanced Mobility of Seniors and Individuals with Disabilities Program under 49 U.S.C. 5310 and/or Formula Grants for Rural Areas Program under 49 U.S.C. 5311. In addition, Part 673 does not apply to certain modes of transit service that are subject to the safety jurisdiction of another Federal agency, including passenger ferry operations that are regulated by the United States Coast Guard and commuter rail operations that are regulated by the Federal Railroad Administration.

In addition, States must draft and certify ASPs on behalf of small public transportation providers within a State, unless a small provider opts to draft and certify their own ASP and notifies the State that they will do so. A small public transportation provider is a transit operator that meets all of the following requirements:

• Is a recipient or sub-recipient of FTA's Urbanized Area Formula Program,

• Operates 100 or fewer vehicles in peak revenue service across all fixed route modes and any each non-fixed route mode, and

• Does not operate rail fixed-guideway public transportation.

Regardless of who drafts and certifies an ASP, each transit operator is required to carry out and implement its own ASP.

State Safety Oversight Agencies must review and approve the ASP of each rail transit agency that they oversee.

b. Certifications and Assurances

Applicants for Urbanized Area Formula Program funds, rail transit agencies that are subject to FTA's State Safety Oversight Program, and States that are required to draft and certify an ASP on behalf of a small public transportation provider must certify that they have met the requirements of the PTASP regulation no later than July 20, 2020. The certification requirement does not apply to any applicant that receives financial assistance from FTA exclusively under the Formula Grants for the Enhanced Mobility of Seniors Program (49 U.S.C. 5310), the Formula Grants for Rural Areas Program (49 U.S.C. 5311), or combination of these two programs.

Applicants that receive awards prior to fulfilling their requirements under the PTASP regulation and prior to July 20, 2020, will execute all other relevant certifications and then execute the PTASP certification after the requirements are met, but no later than July 20, 2020. After July 20, 2020, FTA will not process a grant application without the PTASP certification.

For more information on the requirements, please visit the PTASP Technical Assistance Center at https://www.transit.dot.gov/PTASP-TAC.

3. Value Capture

FTA encourages grantees to consider options to utilize value capture in planning and financing capital projects. Per 49 U.S.C. 5302(24), value capture is the process by which a public agency leverages or recovers a portion of the increased value of properties located near public transportation. Extensive research has shown that public transportation investments can lead to significant increases in land values located close to transit systems due to the increased access to that location. While these increased values typically accrue to private landowners, the public investment leading to these increases may depend upon the return of a portion of that value to finance the project or fund the continuing upkeep and maintenance of the associated transit system infrastructure. This recaptured revenue may reduce the amount of public funding required from Federal, state and local government sources and increase the amount of total funding available for urgent infrastructure projects.

There are many mechanisms available for transit agencies and local governments to recover or leverage the increased value that transit creates to generate revenues to fund current transit operations or future capital investments. Examples include tax increment financing, impact fees, joint development, sale of air rights or naming rights, special assessment districts, and others. Value capture revenues are also eligible to be used as local match for Federal grants (49 U.S.C. 5323(s)).

Recognizing that value capture can help to promote transit-supportive land uses and can optimize the benefits of transit investments, FTA intends to solicit comment from transit agencies, local governments, land developers and other stakeholders on how FTA can support and better assess the use of value capture for public transportation projects. The upcoming call for public comment will include several questions regarding how FTA identifies, supports and assesses value capture through its funding programs and related policies.

4. Coordinating Council on Access and Mobility

The Coordinating Council on Access and Mobility (CCAM) is an interagency partnership established by Executive Order 13330 to coordinate the efforts of the Federal agencies that fund transportation services for transportation disadvantaged populations. The CCAM met on October 29, 2019 and adopted a new Strategic Plan. To facilitate coordination the CCAM has clarified the ability to use federal funds as match and the applicability of FTA's Charter Service Regulations.

a. Federal Braiding of Funds

Federal fund braiding refers to funding arrangements in which funds from one federal program are used to meet the local match requirements of another. FTA Urbanized Area Formula Grants (49 U.S.C. 5307), Enhanced Mobility of Seniors and Individuals with Disabilities Formula Grants (49 U.S.C. 5310), Formula Grants for Rural Areas (49 U.S.C. 5311) and Tribal Transit Program Formula Grants (49 U.S.C. 5311(c)(1)(B)) allow federal funds from outside the Department of Transportation (DOT) to be used as local match. In 2019, the Coordinating Council on Access and Mobility (CCAM) partner agencies developed the CCAM Program Inventory which identifies 130 Federal programs that may fund transportation services for people with disabilities, older adults, and/or individuals of low income. For instance, sixty-six programs from the U.S. Department of Health and Human Services (HHS) are eligible to be used as local match for Section 5307, 5310, 5311 and 5311(c)(1)(B) grants.

b. Coordination and FTA's Charter Service Regulations

FTA's Charter Service Regulations (49 CFR part 604), which implement 49 U.S.C. 5323(d), have limited exceptions when an FTA grantee may provide charter service, including services provided by Qualified Human Service Organizations (QHSO) serving elderly, persons with disabilities, and low-income individuals. The Charter Rule exception for QHSOs applies to organizations that are either registered on the FTA website on a bi-annual basis, or receive funding from one of the sources listed in Charter Rule Appendix A published on January 14, 2008. In addition, individual demand response service is excluded from the definition of Charter service. To learn more, visit FTA's Charter service website: https://www.transit.dot.gov/regulations-and-guidance/access/charter-bus-service/charter-bus-service-regulations-0.

5. Rural Opportunities To Use Transportation for Economic Success (ROUTES)

Rural transportation infrastructure faces significant challenges. Over 70 percent of America's road miles are in rural areas. While one-fifth of Americans live in rural areas, rural America's traffic fatalities are disproportionately high, totaling 46 percent of fatalities in 2018. Further, of the nation's bridges that are posted for weight limits, 90 percent are in rural areas.

The new ROUTES Initiative will address these challenges by assisting rural stakeholders in understanding how to access DOT grants and financing products, and developing data-driven approaches to better assess needs and benefits of rural transportation projects. This builds on DOT's Transportation Infrastructure Finance and Innovation Act Loan Program's Rural Project Initiative, which offers lower project-cost thresholds for loan eligibility, low subsidized interest rates, and the coverage of fees to encourage use of the credit program for infrastructure projects in rural areas. DOT will engage rural transportation stakeholders at events over the coming year to educate project sponsors about the funding and finance opportunities at DOT, as well as to receive their feedback.

Consistent with the ROUTES Initiative, FTA will encourage applicants to FY 2020 competitive funding opportunities to consider how their proposed projects will address the challenges faced by rural areas.

DOT also formed a rural transportation infrastructure council, the ROUTES Council, to lead the way on this initiative. This new internal deliberative body at DOT will identify critical rural transportation concerns and coordinate efforts among DOT's different modal administrations. The Council will initially review public comments and create a rural resources handbook. The first meeting was held in November 2019. To learn more, visit the ROUTES Initiative website: https://www.transportation.gov/rural.

6. Opportunity Zones

Despite the growing national economy, economically distressed communities are located in every corner of the United States and its territories. These communities have high levels of poverty, failing schools, job scarcity, and a lack of investment. A new tax incentive, Opportunity Zones, was created by the 2017 Tax Cuts and Jobs Act to spur economic development and job creation by encouraging long-term investment in low-income communities nationwide.

The Opportunity Zone designation encourages investment in communities by granting investors extensive Federal tax advantages for using their capital gains to finance new projects and enterprises. There are more than 8,700 designated Qualified Opportunity Zones located in all 50 States, the District of Columbia, and five United States territories. Of the Qualified Opportunity Zones 40 percent are in rural census tracts, 38 percent are in urban tracts, and 22 percent are in suburban tracts.

In determining the allocation of competitive program funds, FTA may prioritize projects located in or that support public transportation service in a qualified Opportunity Zone.

C. FY 2020 Competitive Program Funding

FTA's competitive grants programs and the FY 2020 appropriated funding levels are identified in the chart below. FTA selects projects for funding after issuance of a Notice of Funding Opportunity. Additional information about each competitive program is in Section III of this notice.

FY 2020 competitive programs | Statute 49 U.S.C. | 2020 amount ($M) | NOFO published | Applications due
Pilot Program for Innovative Coordinated Access and Mobility | FAST Section 3006(b) | $3.50 | Nov 1, 2019 | Jan 6, 2020.
Low or No Emission Grants Competitive Program | 5339(c) | 130.00 | Jan 17, 2020 | Mar 17, 2020.
Grants for Buses and Bus Facilities Competitive Program | 5339(b) | 454.63 | Jan 30, 2020 | April 29, 2020.
Passenger Ferry Grant Program | 5307(h) | 30.00 | Jan 30, 2020 | April 29, 2020.
Redesign of Transit Bus Operator Compartment | 5312 | 2.00 | Feb 11, 2020 | Mar 24, 2020.
Safety Research Demonstrations | 5312 | 7.30 | Feb 13, 2020 | Mar 24, 2020.
Helping Provide Prosperity for Everyone (HOPE) Grants |  | 8.50 | Mar 3, 2020 | June 3, 2020.
Accelerating Innovative Mobility Challenge Grants | 5312 | 11.00 | Mar 18, 2020 | May 18, 2020.
Tribal Transit | 5311(c)(1)(A) | 5.00 | May 2020 | August 2020.
Real-Time Infrastructure and Rolling Stock Condition Assessment Demonstrations | 5312 | 1.25 | TBD | TBD.
Transit Oriented Development Planning Grants | MAP-21 20005(b) | TBD | TBD | TBD.

D. National Defense Authorization Act for FY 2020

Section 7613 of the National Defense Authorization Act for FY 2020 (NDAA) amends 49 U.S.C. 5323 to add subsections (u) Limitation on Certain Rail Rolling Stock Procurements and (v) Cybersecurity Certification for Rail Rolling Stock and Operations. FTA issued guidance to help transit agencies and transit vehicle manufacturers understand and comply with the prohibitions on FTA-funded rolling stock procurements contained in the FY2020 NDAA found at https://www.congress.gov/116/bills/s1790/BILLS-116s1790enr.pdf. The NDAA frequently asked questions are based on inquiries from grantees and transit vehicle manufacture and can be found at https://www.transit.dot.gov/funding/procurement/frequently-asked-questions-regarding-section-7613-national-defense.

IV. FY 2020 Program-Specific Information

A. Metropolitan Planning Program (49 U.S.C. 5303 and 5305(d))

Section 5305(d) authorizes Federal funding to support a cooperative, continuous, and comprehensive planning program for transportation investment decision-making at the metropolitan area level. The specific requirements of metropolitan transportation planning are set forth in 49 U.S.C. 5303 and further explained in 23 CFR part 450, as incorporated by reference in 49 CFR part 613, Planning Assistance and Standards. The State DOTs are the designated recipients of Metropolitan Planning Programs (MPP) and State Planning and Research Program (SPRP) funds allocated by FTA, which are then sub-allocated to Metropolitan Planning Organizations (MPOs) for planning activities that support the economic vitality of the metropolitan area. The Secretary has the discretion to award MPP and SPRP assistance to States, authorities of States, MPOs, and local governmental authorities.

Each MPO must establish specific performance targets against system performance measures issued by DOT, and use these in tracking progress towards attaining critical outcomes. The MPO must coordinate with States and transit providers in setting these targets. MPOs must provide a system performance report that evaluates progress in meeting the performance targets in comparison with the system performance identified in prior reports. MPP funding must support work resulting in balanced and comprehensive intermodal transportation planning for the movement of people and goods in the metropolitan area. Comprehensive transportation planning is not limited to transit planning or surface transportation planning, but also encompasses the relationships among land use and all transportation modes, without regard to the programmatic source of Federal assistance. MPP funds may be used for studies relating to management, mobility management, planning, operations, capital requirements, economic feasibility, performance-based planning, safety, and transit asset management. Funds may be used to develop or update the metropolitan planning agreements, and to evaluate previously funded projects or to conduct peer reviews and exchanges of technical data, information, or assistance, among MPOs and other transportation planners. Funds may be used for planning for multimodal transportation access to transit facilities; system planning; scenario planning; corridor-level alternative analysis; development of federally required documents, including the Transit Asset Management Plan and Public Transportation Agency Safety Plan; safety, security and emergency transportation planning; coordinated public transit human services transportation planning; transportation and air quality planning and conformity analysis; and public participation in the transportation planning, including the development of the Public Participation Plan. An exhaustive list of eligible work activities is provided in FTA Circular 8100.1D, Program Guidance for Metropolitan Planning and State Planning and Research Program Grants, dated September 10, 2018.

For more information about the Metropolitan Planning program, please contact Victor Austin at (202) 366-2996 or victor.austin@dot.gov.

1. Authorized Amounts

Federal public transportation law authorizes $142,036,417 to carry out section 5305. Of the amounts authorized for Section 5305, 82.72 percent, or $117,492,524, is made available to the Metropolitan Planning Program in FY 2020 to provide financial assistance for metropolitan planning needs under Section 5303.

2. FY 2020 Funding Availability

Under the Further Consolidated Appropriations Act, 2020, $117,492,524 is available to the Metropolitan Planning Program (Section 5305(d)) to support metropolitan transportation planning activities set forth in Section 5303. The total amount apportioned for the Metropolitan Planning Program to States for use by MPOs in urbanized areas (UZAs) is $123,181,798 as shown in the table below, after the deduction for oversight (authorized by Section 5338) and the addition of reapportioned funds.

Metropolitan Planning Program
Total FY 2020 Appropriation Available | $117,492,524
Oversight Deduction | (587,463)
Reapportioned Funds | 6,276,737
Total Apportioned | 123,181,798

3. Period of Availability

The Metropolitan Planning program funds apportioned in this notice are available for obligation during FY 2020 plus three additional fiscal years. Funds apportioned in FY 2020 must be obligated in grants by September 30, 2023. Any FY 2020 apportioned funds that remain unobligated at the close of business on September 30, 2023, will revert to FTA for reapportionment under the Metropolitan Planning Program.

B. State Planning and Research Program (49 U.S.C. 5304 and 5305(e))

This program provides financial assistance to States for statewide transportation planning and other technical assistance activities, including supplementing the technical assistance program provided through the Metropolitan Planning program and planning support for non-urbanized areas. The specific requirements of Statewide transportation planning are set forth in 49 U.S.C. 5304 and further explained in 23 CFR part 450 as referenced in 49 CFR part 613, Planning Assistance and Standards. State DOTs are required to reference performance measures and performance targets within the Statewide Planning process. This funding must support work resulting in balanced and comprehensive intermodal transportation planning for the movement of people and goods and has the same eligibilities as MPP funds.

For more information about the State Planning and Research program, please contact Victor Austin at (202) 366-2996 or victor.austin@dot.gov.

1. Authorized Amounts

Federal public transportation law authorizes $24,543,893 in FY 2020, to provide financial assistance for statewide planning and other technical assistance activities under Section 5305. As specified in law, this represents the 17.28 percent of the amounts available for Section 5305 that are allocated to the Statewide Planning and Research program.

2. FY 2020 Funding Availability

Under the Further Consolidated Appropriations Act, 2020, $24,543,893 is available for the State Planning and Research Program (Section 5305(e)). The total amount apportioned for the State Planning and Research Program (SPRP) is $24,421,174 as shown in the table below, after the deduction for oversight (authorized by Section 5338).

Statewide Transportation Planning Program
Total FY 2020 Appropriation Available | $24,543,893
Oversight Deduction | (122,719)
Total Apportioned | 24,421,174
States' apportionments for this program are displayed in Table 2.

3. Period of Availability

The State Planning and Research program funds apportioned in this notice are available for obligation during FY 2020 plus three additional fiscal years. Accordingly, funds apportioned in FY 2020 must be obligated in grants by September 30, 2023. Any FY 2020 apportioned funds that remain unobligated at the close of business on September 30, 2023 will revert to FTA for reapportionment under the State Planning and Research program.

C. Urbanized Area Formula Program (49 U.S.C. 5307)

The Urbanized Area Formula Program provides financial assistance to designated recipients in urbanized areas (UZAs) for capital investments in public transportation systems, planning, job access and reverse commute projects, and, in some cases, operating assistance. FTA apportions funds for this program through a statutory formula. Of the amount authorized for Section 5307 each year, $30 million is set aside for the competitive Passenger Ferry Grant Program (Ferry program), as authorized under 49 U.S.C. 5307(h). The Ferry program offers financial assistance to public ferry systems in urbanized areas for capital projects. Projects are selected annually through a funding competition. Additionally, 0.5 percent will be apportioned to eligible States for State Safety Oversight (SSO) Program grants, and 0.75 percent will be set aside for program oversight. Further information on the 0.5 percent apportionment to States for the State Safety Oversight Program is provided in section IV.M. of this notice.

For more information about the Urbanized Area Formula Program, Contact John Bodnar at (202) 366-9091 or john.bodnar@dot.gov. For more information about the Ferry program, contact Vanessa Williams at (202) 366-4818 or vanessa.williams@dot.gov.

1. Authorized Amounts

Federal public transportation law authorizes $4,929,452,499 in FY 2020 to provide financial assistance for urbanized areas under Section 5307.

2. FY 2020 Funding Availability

Under the Further Consolidated Appropriations Act, 2020, $4,929,452,499 is available for the Urbanized Area Formula program. The total amount apportioned is $5,371,536,821, which includes the addition of reapportioned funds and amounts apportioned to UZAs pursuant to the Section 5340 Growing States and High-Density States Formula factors. This amount to UZAs excludes the set-aside of $30 million for the Ferry program, apportionments under the State Safety Oversight Program, and oversight (authorized by Section 5338), as shown in the table below:

Urbanized Area Formula Program
Total FY 2020 Appropriation Available | ᵃ $4,929,452,499
Oversight Deduction | (36,970,894)
State Safety Oversight Program | (24,647,263)
Ferry Discretionary Program | (30,000,000)
5340 High Density States | 309,364,074
5340 Growing States | 215,020,586
Reapportioned Funds | 9,317,819
Total Apportioned | 5,371,536,821
ᵃ Includes 1.5 percent set-aside for Small Transit Intensive Cities Formula Table 3 displays the amounts apportioned under the Urbanized Area Formula Program.

3. Period of Availability

Funds made available under the Urbanized Area Formula Program are available for obligation during the year of apportionment plus five additional years. Accordingly, funds apportioned in FY 2020 must be obligated by September 30, 2025. Any FY 2020 apportioned funds that remain unobligated at the close of business on September 30, 2025 will revert to FTA for reapportionment under the Urbanized Area Formula Program.

Funds allocated under the Ferry program have the same period of availability as Section 5307. Accordingly, funds allocated in FY 2020 must be obligated by September 30, 2025. Any of the funds allocated in FY 2020 that remain unobligated at the close of business on September 30, 2025 will revert to FTA for reallocation under the Ferry program. Competitive Ferry program funds are available for obligation during the FY in which funds are allocated/awarded to projects plus five additional years.

D. Fixed Guideway Capital Investment Grants Program (49 U.S.C. 5309)

The Capital Investment Grants (CIG) Program includes four types of eligible projects: New Starts projects, Small Starts projects, Core Capacity Improvement projects, and Programs of Inter-related Projects. Funding is provided for construction of: (1) New fixed guideway systems or extensions to existing fixed guideway systems such as rapid rail (heavy rail), commuter rail, light rail, trolleybus (using overhead catenary), cable car, passenger ferries, and bus rapid transit operating on an exclusive transit lane for the majority of the corridor length during peak periods that also includes features that emulate the services provided by rail fixed guideway, including defined stations, traffic signal priority for public transit vehicles, and short headway bi-directional service for a substantial part of weekdays and weekends; (2) corridor-based bus rapid transit service that does not operate on an exclusive transit lane but includes features that emulate the services provided by rail fixed guideway, including defined stations, traffic signal priority for public transit vehicles, and short headway bi-directional services for a substantial part of weekdays; (3) projects that expand the capacity by at least 10 percent in an existing fixed guideway corridor that is at capacity today or will be in five years; and (4) programs of two or more interrelated projects as described above that have logical connectivity with one another and will all begin construction in a reasonable timeframe. FAST Act Section 3005(b) authorizes an Expedited Project Delivery for the CIG Pilot Program.

For more information about the Capital Investment Grant program contact Elizabeth Day, Office of Capital Project Development, at (202) 366-5159 or elizabeth.day@dot.gov. For information about published allocations contact Eric Hu, Office of Transit Programs, at (202) 366-0870 or eric.hu@dot.gov.

1. Authorized Amounts

Federal public transportation law authorizes $2,301,785,760 in FY 2020, to provide financial assistance for Capital Investment Grants under Section 5309 and Section 3005(b) of the FAST Act.

2. FY 2020 Funding Availability

Under the Further Consolidated Appropriations Act, 2020, $1,978,000,000 is available for Capital Investment Grants for the Fixed Guideway Capital Investment Grants Program and the FAST Act Section 3005(b) Expedited Project Delivery for CIG Pilot Program. The Further Consolidated Appropriations Act, 2020 requires that $1,681,300,000 of the amount available must be allocated by December 31, 2021. The funds are available to be allocated in the following amounts: $1,458,000,000 for New Starts projects; $300,000,000 for Core Capacity projects; $100,000,000 for Small Starts projects; $100,000,000 for FAST Act Section 3005(b) Expedited Project Delivery for CIG Pilot Program projects and $19,780,000 for Oversight. The total amount available for projects is $1,958,220,000 as shown in the table below, after the deduction for oversight (authorized by Section 5338).

Capital Investment Grants Program
Total FY 2020 Appropriation Available | ᵃ $1,978,000,000
Oversight Deduction | (19,780,000)
Total Apportioned | 1,958,220,000
ᵃ Includes $220,000 in unallocated funds.

3. Period of Availability

Capital Investment Grant program funds apportioned in this notice are available for obligation during FY 2020 plus three additional fiscal years. Accordingly, funds apportioned in FY 2020 must be obligated in grants by September 30, 2023.

Section 143 of the Further Consolidated Appropriations Act, 2020, Public Law 116-94, eliminated the requirement for a portion of FY 2018 CIG funds to be obligated by December 31, 2019 and a portion of FY 2019 funds to be obligated by December 31, 2020. All FY 2018 CIG funds must now be obligated by September 30, 2021 and must be disbursed by the recipient by September 30, 2026. All FY 2019 CIG funds must now be obligated by September 30, 2022 and must be disbursed by the recipient by September 30, 2027.

E. Formula Grants for the Enhanced Mobility of Seniors and Individuals With Disabilities Program (49 U.S.C. 5310)

The Section 5310 Enhanced Mobility of Seniors and Individuals with Disabilities Program provides formula funding to states and urbanized areas for meeting the transportation needs of older adults and people with disabilities when the public transportation service provided is unavailable, insufficient, or inappropriate to meet these needs. The program aims to improve mobility for seniors and individuals with disabilities by removing barriers to transportation service and expanding transportation mobility options. The Pilot Program for Innovative Coordinated Access and Mobility Program (Pilot Program) was established by Section 3006(b) of the FAST Act. The purpose of the program is to assist in financing innovative projects for the transportation disadvantaged that improve the coordination of transportation services and non-emergency medical transportation (NEMT) services, including, for example, the deployment of coordination technology, and projects that create or increase access to community One-Call/One-Click Centers.

For more information about the Enhanced Mobility of Seniors and Individuals with Disabilities program, please contact Amy Fong at (202) 366-0876 or amy.fong@dot.gov.

1. Authorized Amounts

Federal public transportation law authorizes $285,574,688 in FY 2020 to provide formula funding to designated recipients and states for meeting the transportation needs of older adults and people with disabilities. The law also authorizes $3.50 million for the competitive Innovative Coordinated Access and Mobility Pilot Program.

2. FY 2020 Funding Availability

Under the Further Consolidated Appropriations Act, 2020, $285,574,688 is available for the Section 5310 formula program. The total amount apportioned is $288,155,908 after the oversight deduction and the addition of reapportioned funds as shown in the table below. A total of $3,500,000 is available for the competitive Pilot Program.

Formula Grants for the Enhanced Mobility of Seniors and Individuals With Disabilities Program
Total FY 2020 Appropriation Available | $285,574,688
Oversight Deduction | (1,427,873)
Reapportioned Funds | 4,009,093
Total Apportioned | 288,155,908

3. Period of Availability

The Enhanced Mobility of Seniors and Individuals with Disabilities program funds apportioned in this notice are available for obligation during FY 2020 plus two additional fiscal years. Accordingly, funds apportioned in FY 2020 must be obligated in grants by September 30, 2022. Any FY 2020 apportioned funds that remain unobligated at the close of business on September 30, 2022, will revert to FTA for reapportionment among the States and urbanized areas.

F. Formula Grants for Rural Areas Program (49 U.S.C. 5311)

The Formula Grants for Rural Areas Program provides formula funding to States and Indian tribes for supporting public transportation in areas with a population of less than 50,000. Funding may be used for capital, operating, planning, job access and reverse commute projects, and State administration expenses. Eligible subrecipients include State and local governmental authorities, Indian Tribes, private non-profit organizations, and private intercity bus companies. Indian Tribes are also eligible direct recipients under the Formula Grants for Rural Areas Program, both for funds apportioned to the States and for projects apportioned or competitively selected to be funded with funds set aside from the Tribal Transit Program.

For more information about the Formula Grants for Rural Areas program, please contact Élan Flippin at (202) 366-3800 or elan.flippin@dot.gov.

1. Authorized Amounts

Federal public transportation law authorizes $673,299,658 for FY 2020 to provide financial assistance for rural areas under the Formula Grants for Rural Areas Program. This amount includes $35 million for the Tribal Transit Program; $20 million for the Appalachian Program; $13,465,993 for the Rural Transit Assistance Program; and $604,833,664 for the Rural Formula Program.

2. FY 2020 Funding Availability

Under the Further Consolidated Appropriations Act, 2020, $644,033,664 is available for the Rural Area Formula Program. The total amount apportioned to the program is $727,197,332 as shown in the table below, after the addition of reapportioned funds, the addition of Section 5340(c) Growing States funds, and the oversight deduction authorized by Section 5338.

Grants for Rural Areas Formula Program
Total FY 2020 Appropriation Available | $644,033,664
Oversight Deduction | (3,566,498)
5340 Growing States | 85,648,257
Reapportioned Funds | 1,081,909
Total Apportioned | 727,197,333

3. Period of Availability

The Formula Grants for Rural Areas Program funds apportioned in this notice are available for obligation during FY 2020 plus two additional fiscal years. Accordingly, funds apportioned in FY 2020 must be obligated in grants by September 30, 2022. Any FY 2020 apportioned funds that remain unobligated at the close of business on September 30, 2022, will revert to FTA for reapportionment under the Formula Grants for Rural Areas Program.

G. Rural Transportation Assistance Program (49 U.S.C. 5311(b)(3))

This program provides funding to assist in the design and implementation of training and technical assistance projects, research, and other support services tailored to meet the needs of transit operators in rural areas.

For more information about Rural Transportation Assistance Program (RTAP), please contact Élan Flippin at (202) 366-3800 or elan.flippin@dot.gov.

1. Authorized Amounts

Federal public transportation law authorized $13,465,993, or two percent of the funds made available for the Formula Grants for Rural Areas Program, to be made available for the Rural Transportation Assistance Program (RTAP). Of the two percent takedown, 15 percent is reserved for the National Rural Transit Assistance Program (NRTAP). The remainder is available for allocation to the States.

2. FY 2020 Funding Availability

Under the Further Consolidated Appropriations Act, 2020, $14,265,993 is available for the RTAP. The total amount apportioned for RTAP is $12,126,094 as shown in the table below, after the deduction for NRTAP.

Rural Transportation Assistance Program (RTAP)
Total FY 2020 Appropriation Available | $14,265,993
National RTAP | (2,139,899)
Total Apportioned | 12,126,094

3. Period of Availability

The RTAP funds apportioned in this notice are available for obligation during FY 2020 plus two additional fiscal years. Accordingly, funds apportioned in FY 2020 must be obligated in grants by September 30, 2022.

H. Appalachian Development Public Transportation Assistance Program (49 U.S.C. 5311(c)(2))

This program is a take-down under the Formula Grants for Rural Areas Program to provide additional funding to support public transportation in the Appalachian region. There are thirteen eligible States that receive an allocation under this provision. The State allocations are shown in the Formula Grants for Rural Areas Program table posted on FTA's website on the FY 2020 Apportionments page.

For more information about the Appalachian Development Public Transportation Assistance Program, please contact Élan Flippin at (202) 366-3800 or elan.flippin@dot.gov.

1. Authorized Amounts

Federal public transportation law authorizes $20 million in FY 2020 as a take-down under the Formula Grants for Rural Areas program to support public transportation in the Appalachian region.

2. FY 2020 Funding Availability

Under the Further Consolidated Appropriations Act, 2020, $20 million is available.

Appalachian Development Public Transportation Assistance Program
Total FY 2020 Appropriation Available | $20,000,000
Total Apportioned | 20,000,000

3. Period of Availability

The Appalachian program funds apportioned in this notice are available for obligation during FY 2020 plus two additional fiscal years, consistent with that established for the Formula Grants for Rural Areas Program.

I. Public Transportation on Indian Reservations Program (49 U.S.C. 5311(c)(1))

The Public Transportation on Indian Reservations Program, or Tribal Transit Program (TTP), totals $35 million, of which $30 million is for a formula program and $5 million is for a competitive grant program. It is funded as a takedown from funds made available for the Formula Grants for Rural Areas program. Formula factors include vehicle revenue miles and the number of low-income individuals residing on tribal lands (defined as American Indian Areas and Alaska Native Areas). Eligible direct recipients are Federally recognized Indian tribes and Alaskan Native Villages providing public transportation in rural areas. The TTP funds are allocated for grants to eligible recipients for any purpose eligible under Formula Grants for Rural Areas program, which includes capital, operating, planning, and job access and reverse commute projects.

For more information about the Tribal Transit Program, contact Amy Fong, Office of Transit Programs at (202) 366-0876 or amy.fong@dot.gov.

1. Authorized Amounts

Federal public transportation law authorizes $35 million in FY 2020 to provide assistance to tribes through the Public Transportation on Indian Reservations formula and competitive programs.

2. FY 2020 Funding Availability

Under the Further Consolidated Appropriations Act, 2020, $30 million is available for the formula program and $5 million for the competitive program. The total apportioned for the formula program is $32,604,193 after the addition of reapportioned funds.

Public Transportation on Indian Reservations Program Formula Grants
Total FY 2020 Appropriation Available | $30,000,000
Reapportioned Funds | 2,604,193
Total Apportioned | 32,604,193

Public Transportation on Indian Reservations Program Competitive Grants
Total FY 2020 Appropriation Available | $5,000,000
Total Apportioned | 5,000,000

3. Period of Availability

The TTP formula program funds apportioned in this notice are available for obligation during FY 2020 plus two additional fiscal years. Accordingly, funds apportioned in FY 2020 must be obligated in grants by September 30, 2022. Any FY 2020 apportioned funds that remain unobligated at the close of business on September 30, 2022, will revert to FTA for reapportionment under the TTP formula program. Competitive TTP funds are available for obligation during the FY in which funds are awarded to projects plus two additional years.

J. Public Transportation Innovation (49 U.S.C. 5312)

Public Transportation Innovation is FTA's research program with the overarching statutory goal to improve public transportation. The law specifies research focus areas, including providing more effective and efficient public transportation service; mobility management; system capacity; advanced vehicle design; asset maintenance; construction and project management; environment and energy efficiency; and safety improvements. FTA may make grants, enter into contracts, cooperative agreements, and other agreements to carry out the research, development, demonstration, and deployment projects, including research and technology of national significance to public transportation.

Within this section are three distinct programs: (a) A Research, Development, Demonstration, Deployment, and Evaluation program (49 U.S.C. 5312(b-e)); (b) a Low or No Emission Vehicle Component Assessment Program (LoNo-CAP) (49 U.S.C. 5312(h)); and (c) a Transit Cooperative Research Program (49 U.S.C. 5312(i)). Eligible recipients can be departments, agencies, and governmental agencies, including Federal Laboratories; state and local entities; providers of public transportation; private or non-profit organizations; institutions of higher education; and technical community colleges. Each program area has specific requirements relating to the type of organization that may receive a grant or enter an agreement.

The types of research eligible for funding are broad and include: Opportunities to enhance public transportation operational effectiveness and efficiency; improve services; leverage new types of vehicle technologies; utilize transformative technologies to improve public transportation; field new mobility models; and support increased safety.

For more information about the Public Transportation Innovation program (Sections 5312(b-e) and 5312(i)), contact Edwin Rodriguez, Office of Research, Demonstration and Innovation at (202) 366-0671 or edwin.rodriguez@dot.gov.

For more information about the LoNo-CAP program (Section 5312(h)), please contact Sam Yimer at (202) 366-1321 or samuel.yimer@dot.gov.

1. Authorized Amounts

Federal public transportation law authorizes $28 million in FY 2020 funding for the Public Transportation Innovation program.

2. FY 2020 Funding Availability

Under the Further Consolidated Appropriations Act, 2020, $36,500,000 is available for the Public Transportation Innovation program. The total amounts apportioned to each subcomponent of the program is shown below in the table.

Public Transportation Innovation Program
Research, Development, Demonstration, Deployment, & Evaluation | $25,500,000
Low or No Emission Vehicle Component Testing | 3,000,000
Transit Cooperative Research Program (TCRP) | 5,000,000
Low or No Emission Bus Testing | 3,000,000
Total Apportioned | 36,500,000

3. Period of Availability

Funding is available until expended.

K. Technical Assistance and Workforce Development (49 U.S.C. 5314)

1. Authorized Amounts

Federal public transportation law authorizes $9 million in contract authority for the Technical Assistance and Workforce Development Program, of which $5 million is authorized for NTI. An additional $5 million is authorized to be appropriated from the general fund.

2. FY 2020 Funding Availability

In FY 2020 under the Further Consolidated Appropriations Act, 2020, $14 million is available for the Technical Assistance and Workforce Development program, as shown in the table below. Of the available amounts $5 million is available for the NTI.

Technical Assistance and Workforce Development
Total FY 2020 Appropriation Available | $14,000,000
Total Apportioned | 14,000,000

3. Period of Availability

FTA establishes the period in which the funds must be obligated to each project. If the funds are not obligated within that time, they revert to FTA for reallocation under the program.

L. Public Transportation Emergency Relief Program (49 U.S.C. 5324)

For more information about the Emergency Relief Program, please contact Thomas Wilson at (202) 366-5279 or thomas.wilson@dot.gov.

M. State Safety Oversight Formula Program (49 U.S.C. 5329)

The State Safety Oversight Formula Program provides funding to support States with rail fixed guideway public transportation systems (rail transit systems) to develop and carry out State Safety Oversight (SSO) Programs consistent with the requirements of 49 U.S.C. 5329.

For more information about the State Safety Oversight Program, please contact Kimberly Burtch at (202) 366-0816 or kimberly.burtch@dot.gov.

1. Authorized Amounts

Federal public transportation law authorizes $24,647,263 in FY 2020 to provide funding to support States in developing and carrying out the SSO Program.

2. FY 2020 Funding Availability

Under the Further Consolidated Appropriations Act, 2020, $24,647,263 is available for the State Safety Oversight (SSO) Formula program as shown in the table below.

State Safety Oversight Formula Program
Total FY 2020 Appropriation Available | $24,647,263
Total Apportioned | 24,647,263

3. Period of Availability

SSO Formula Grant Program funds are available for the year of apportionment plus, two additional years. Any FY 2020 funds that remain unobligated at the close of business on September 30, 2022 will revert to FTA for reapportionment under the SSO Formula Grant Program.

N. State of Good Repair Program (49 U.S.C. 5337)

The State of Good Repair Program provides financial assistance to designated recipients in Urbanized Areas (UZAs) with fixed guideway and high-intensity motorbus systems for capital investments that maintain, rehabilitate, and replace aging transit assets and bring fixed guideway and high intensity motorbus systems into a state of good repair. FTA apportions funds for this program through a statutory formula using data reported to the National Transit Database (NTD).

For more information about the State of Good Repair program, please contact Eric Hu at (202) 366-0870 or eric.hu@dot.gov.

1. Authorized Amounts

Federal public transportation law authorizes $2,683,798,369 in FY 2020 for the State of Good Repair Program.

2. FY 2020 Funding Availability

Under the Further Consolidated Appropriations Act, 2020, $2,683,798,369 is available for the State of Good Repair Program. The total amount apportioned is $2,656,960,385 after the deduction for oversight as shown in the table below. Of the total amount apportioned, $2,581,237,014 is apportioned to the High Intensity Fixed Guideway Formula and $75,723,371 is apportioned to the High Intensity Motorbus Formula.

State of Good Repair Program
Total FY 2020 Appropriation Available | $2,683,798,369
Oversight Deduction | (26,837,984)
Total Apportioned | 2,656,960,385
High Intensity Fixed Guideway Formula | 2,581,237,014
High Intensity Motorbus Formula | 75,723,371
Total Apportioned | 2,656,960,385

3. Period of Availability

The State of Good Repair Program funds apportioned in this notice are available for obligation during FY 2020 plus three additional years. Accordingly, funds apportioned in FY 2020 must be obligated in grants by September 30, 2023. Any FY 2020 apportioned funds that remain unobligated at the close of business on September 30, 2023 will revert to FTA for reappointment under the State of Good Repair Program.

O. Grants for Buses and Bus Facilities Program (49 U.S.C. 5339)

The Grants for Buses and Bus Facilities Program provides financial assistance to states, local governmental entities that operate fixed route bus service, and designated recipients for capital investments in public transportation systems to replace, rehabilitate, lease, and purchase buses and related equipment and to construct bus-related facilities, including technological changes or innovations to modify low or no emission vehicles or facilities. Funding is provided through Section 5339(a) formula allocations, Section 5339(b) competitive grants, and Section 5339(c) low or no emission grants.

For more information about the Grants for Buses and Bus Facilities Formula Program, please contact John Bodnar at (202) 366-9091 or john.bodnar@dot.gov. For more information about the competitive Low or No Emissions Grant Program, please contact Victor Waldron at (202) 366-5183 or victor.waldron@dot.gov. For more information about the Grants for Buses and Bus Facilities Competitive Program please contact Mark G. Bathrick at (202) 366-9955 or mark.bathrick@dot.gov.

1. Authorized Amounts

Federal public transportation law authorizes $808,653,915 in FY 2020 to provide financial assistance for Grants for Buses and Bus Facilities. Of this amount, $464,609,736 is authorized for the Grants for Buses and Bus Facilities Formula program and $344,044,179 for the Grants for Buses and Bus Facilities Competitive program, of which $55,000,000 is available for the Low or No Emissions program.

2. Funding Availability

Under the Further Consolidated Appropriations Act, 2020, $1,221,653,915 is available for Grants for Buses and Bus Facilities. Of this amount $627,865,163 is available for the Grants for Buses and Bus Facilities Formula Program, $454,626,348 is available for the Grants for Buses and Bus Facilities Competitive Program, and $130,000,000 is available for the Low or No Emission Grants Program after the takedown for oversight.

Formula Grants for Buses and Bus Facilities
Total FY 2020 Appropriation Available | $632,609,736
Oversight Deduction | (4,744,573)
Total Apportioned | 627,865,163
Competitive Grants for Buses and Bus Facilities
Total FY 2020 Appropriation Available | 589,044,179
Oversight Deduction | (4,417,831)
Less Section 5339(c) Low or No Emission Grants (Competitive) | (130,000,000)
Total Apportioned | 454,626,348
Section 5339(c) Low or No Emission Grants (Competitive)
Total FY 2020 Appropriation Available | 130,000,000
Total Apportioned | 130,000,000

3. Period of Availability

The Buses and Bus Facilities Program formula funds apportioned in this notice are available for obligation during FY 2020 plus three additional years. Accordingly, funds apportioned in FY 2020 must be obligated in grants by September 30, 2023. Any FY 2020 apportioned funds that remain unobligated at the close of business on September 30, 2023 will revert to FTA for reapportionment under the Buses and Bus Facilities Formula Program. Competitive 5339(b) and 5339(c) funds are available for obligation during the FY in which funds are allocated/awarded to projects plus three additional years.

P. Growing States and High-Density States Formula Factors (49 U.S.C. 5340)

Federal public transportation law authorizes the use of formula factors to distribute additional funds to the Section 5307 Urbanized Area Formula program and Section 5311 Formula Grants for Rural Areas program for growing states and high-density states. FTA will continue to publish single urbanized and rural apportionments that show the total amount for Section 5307 and 5311 programs that includes Section 5340 apportionments for these programs.

For more information about this program, please contact John Bodnar at (202) 366-9091 or john.bodnar@dot.gov.

1. Authorized Amounts

Federal public transportation law authorizes $570,032,917 for apportionment in FY 2020 for the Growing States and High-Density States Formula factors.

2. FY 2020 Funding Availability

Under the Further Consolidated Appropriations Act, 2020, $610,032,917 is available for the Growing States and High-Density States formula.

Growing States and High-Density States Formula Factors
Growing States | $300,668,843
High-Density States | 309,364,074
Total Apportioned | 610,032,917

3. Basis for Formula Apportionment

Under the Growing States portion of the Section 5340 formula, FTA projects each State's 2025 population by comparing each State's apportionment year population (as determined by the Census Bureau) to the State's 2010 Census population and extrapolating to 2025 based on each State's rate of population growth between 2010 and the apportionment year. Each State receives a share of Growing States funds based on its projected 2025 population relative to the nationwide projected 2025 population.

Once each State's share is calculated, funds attributable to that State are divided into an urbanized area allocation and a non-urbanized area allocation based on the percentage of each State's 2010 Census population that resides in urbanized and non-urbanized areas. Urbanized Areas receive portions of their State's urbanized area allocation based on the 2010 Census population in that urbanized area relative to the total 2010 Census population in all urbanized areas in the State. These amounts are added to the Urbanized Area's Section 5307 apportionment. The States' rural area allocation is added to the allocation that each State receives under the Formula Grants for Rural Areas program.

The High-Density States portion of the Section 5340 formula are allocated to urbanized areas in States with a population density equal to or greater than 370 persons per square mile. Based on this threshold and 2010 Census data, the States that qualify are Maryland, Delaware, Massachusetts, Connecticut, Rhode Island, New York, and New Jersey. The amount of funds provided to each of these seven States is allocated based on the population density of the individual State relative to the population density of all seven States. Once funds are allocated to each State, funds are then allocated to urbanized areas within the States based on an individual urbanized area's population relative to the population of all urbanized areas in that State.

Q. Washington Metropolitan Area Transit Authority Grants

Section 601 of the Passenger Rail Investment and Improvement Act of 2008 (PRIIA) authorized an aggregate amount of $1.5 billion to be available in increments over 10 fiscal years beginning in fiscal year 2009 to assist the Washington Metropolitan Transit Authority (WMATA) in implementing its Capital Improvement Program and preventive maintenance projects. The funds authorized under PRIIA were fully appropriated after FY 2019. The Further Consolidated Appropriations Act, 2020 provides funding for Washington Metropolitan Area Transit Authority Grants for an additional year in the amount of $150,000,000.

For more information about the Washington Metropolitan Area Transit Authority Grants program, please contact Eric Hu, Office of Transit Programs, at (202) 366-0870 or eric.hu@dot.gov or Daniel Koening, Region III Office, at (202) 366-8224 or daniel.koening@dot.gov.

1. FY 2020 Funding Availability

Under the Further Consolidated Appropriations Act, 2020, $150,000,000 is available. The total amount available is $148,500,000 after the deduction for oversight as shown in the table below.

Washington Metropolitan Area Transit Authority Grants
Total FY 2020 Appropriation Available | $150,000,000
Oversight Deduction | (1,500,000)
Total Apportioned | 148,500,000

2. Period of Availability

Funds appropriated for WMATA under the Further Consolidated Appropriations Act, 2020 shall remain available until expended.

V. FY 2020 Grants

A. Automatic Pre-Award Authority To Incur Project Costs

1. Caution to New Grantees

While FTA provides pre-award authority to incur expenses before grant award for formula programs, it recommends that first-time grant recipients NOT utilize this automatic pre-award authority without verifying with the appropriate FTA Regional Office that all pre-requisite requirements have been met. Commonly, a new grantee may misunderstand pre-award authority conditions and be unaware of all the applicable FTA requirements that must be met in order to be reimbursed for project expenditures incurred in advance of grant award. FTA programs have specific statutory requirements that are often different from those for other Federal grant programs with which new grantees may be familiar. If funds are expended for an ineligible project or activity, or for an eligible activity but at an inappropriate time (e.g., prior to NEPA completion), FTA will be unable to reimburse the project sponsor and, in certain cases, the entire project may be rendered ineligible for FTA assistance.

2. Policy

FTA provides pre-award authority to incur expenses before grant award for certain program areas described below. This pre-award authority allows grantees to incur certain project costs before grant approval and retain the eligibility of those costs for subsequent reimbursement after grant approval. The grantee assumes all risk and is responsible for ensuring that all conditions are met to retain eligibility. This pre-award spending authority permits an eligible grantee to incur costs on an eligible transit capital, operating, planning, or administrative project without prejudice to possible future Federal participation in the cost of the project.

In this notice, FTA provides pre-award authority through the authorization period of the FAST Act, plus an additional year (October 1, 2015 through September 30, 2021) for capital assistance under all formula programs, so long as the conditions described below are met.

FTA provides pre-award authority for planning and operating assistance under the formula programs without regard to the period of the authorization. All pre-award authority is subject to conditions and triggers stated below: The actual items of cost associated with the use of pre-award authority are documented in the initial FFR that is required to be completed prior to the recipient executing the award.

For projects funded out of competitive programs, pre-award authority may be granted at the time of project selection.

a. Operating, Planning, or Administrative Assistance

FTA does not impose additional conditions on pre-award authority for operating, planning, or administrative assistance under the formula grant programs. Grantees may be reimbursed for expenses incurred before grant award so long as funds have been expended in accordance with all Federal requirements, would have been allowable if incurred after the date of award, and the grantee is otherwise eligible to receive the funding. In addition to cross-cutting Federal grant requirements, program specific requirements must be met. Designated recipients for Section 5310 have pre-award authority for the ten percent of the apportionment they may use for program administration.

b. Transit Capital Projects Other Than Capital Investment Grants

For transit capital projects, the date that costs may be incurred varies depending on the type of activity and its potential to have a significant impact on the human and natural environment as described under conditions in section 3 below.

c. Public Transportation Innovation, Technical Assistance and Workforce Development

Unless provided for in an announcement of project selections, pre-award authority does not apply to Section 5312 Public Transportation Innovation projects or Section 5314 Technical Assistance and Workforce Development projects. Before an applicant may incur costs for activities under these programs, it must first obtain a written LONP from FTA. Information about LONP procedures may be obtained from the appropriate headquarters office.

3. Conditions

The conditions under which pre-award authority may be utilized are specified below:

a. Pre-award authority is not a legal or implied commitment that the subject project will be approved for FTA assistance or that FTA will obligate Federal funds. Furthermore, it is not a legal or implied commitment that all items undertaken by the applicant will be eligible for inclusion in the project.

b. All FTA statutory, procedural, and contractual requirements must be met.

c. No action will be taken by the grantee that prejudices the legal and administrative findings that FTA must make in order to approve a project.

d. Local funds expended by the grantee after the date of the pre-award authority will be eligible for credit toward local match or reimbursement if FTA later makes a grant or grant amendment for the project. Local funds expended by the grantee before the date of the pre-award authority will not be eligible for credit toward local match or reimbursement. Furthermore, the expenditure of local funds or the undertaking of certain activities that would compromise FTA's ability to comply with Federal environmental laws (e.g., project implementation activities such as land acquisition, demolition, or construction before the date of pre-award authority) may render the project ineligible for FTA funding.

e. The Federal amount of any future FTA assistance awarded to the grantee for the project will be determined based on the overall scope of activities and the prevailing statutory provisions with respect to the Federal/local match ratio at the time the funds are obligated.

f. For funds to which the pre-award authority applies, the authority expires with the lapsing of the fiscal year funds.

g. When a grant for the project is subsequently awarded, the grant must indicate the use of pre-award authority and an initial Federal Financial Report must be submitted in TrAMS.

h. Environmental Requirements.

All Federal environmental requirements must be met at the appropriate time for a project to remain eligible for Federal funding. Designated recipients may incur costs for design and environmental review activities for all formula funded projects from the date of the authorization of the formula funds or for discretionary funded projects other than those funded by the Capital Investment Grants (CIG) program from the date of the announcement of the competitive allocation of funds for the project.

For projects that qualify for a categorical exclusion (CE) pursuant to 23 CFR 771.118(c), designated recipients may start activities and incur costs under pre-award authority for property acquisition, demolition, construction, and acquisition of vehicles, equipment, or construction materials from the date of the authorization of formula funds or the date of the announcement of competitive allocations for the project.

FTA recommends that a grant applicant considering a CE pursuant to 23 CFR 771.118(c) contact FTA's Regional Office for assistance in determining the appropriate environmental review process and level of documentation necessary before incurring the above-mentioned costs, especially when the grant applicant believes a c-list CE with construction activities, such as 23 CFR 771.118(c)(8), (9), (10), (12), or (13), applies to its project. If FTA subsequently finds that a project does not qualify for a CE under 23 CFR 771.118(c) and the sponsor has already undertaken activities under pre-award authority, the project will be ineligible for FTA assistance.

For all other non-CIG projects that do not qualify for a CE under 23 CFR 771.118(c), grant applicants may take action and incur costs for property acquisition, demolition, construction, and acquisition of vehicles, equipment, or construction materials from the date that FTA completes the environmental review process required by NEPA and its implementing regulations, 23 U.S.C. 139, and other environmental laws, by its issuance of a 23 CFR 771.118(d) CE determination, a finding of no significant impact (FONSI), a combined final environmental impact statement (FEIS)/record of decision (ROD), or a ROD.

i. Planning and other requirements.

Formula funds must be authorized or appropriated and competitive project allocations published or announced before pre-award authority can be considered. The requirements that a capital project be included in a locally adopted Metropolitan Transportation Plan, the metropolitan transportation improvement program, and the federally approved statewide transportation improvement program (23 CFR part 450) must be satisfied before the grantee may advance the project beyond planning and preliminary design with non-federal funds under pre-award authority. If the project is located within an EPA-designated non-attainment or maintenance area for air quality, the conformity requirements of the Clean Air Act, 40 CFR part 93, must also be met before the project may be advanced into implementation-related activities under pre-award authority triggered by the completion of the NEPA process. For a planning project to have pre-award authority, the planning project must be included in a MPO-approved UPWP that has been coordinated with the State.

j. Federal procurement procedures, as well as the whole range of applicable Federal requirements (e.g., Buy America, Davis-Bacon Act, and Disadvantaged Business Enterprise) must be followed for projects in which Federal funding will be sought in the future. Failure to follow any such requirements could make the project ineligible for Federal funding. In short, the administrative flexibility allowed by pre-award authority requires a grantee to make certain that no Federal requirements are circumvented.

k. All program specific requirements must be met. For example, projects under Section 5310 must comply with specific program requirements, including coordinated planning. Before incurring costs, grantees are strongly encouraged to consult with the appropriate FTA Regional Office regarding the eligibility of the project for future FTA funds and for questions on environmental requirements, or any other Federal requirements that must be met.

4. Pre-Award Authority for the Fixed Guideway Capital Investment Grants Program

Projects proposed for Section 5309 CIG program funds are required to follow a multi-step, multi-year process defined in law. For New Starts and Core Capacity projects, this process includes three phases: Project development (PD), engineering, and construction. For Small Starts projects, this process includes two phases: PD and construction. After receiving a letter from the project sponsor requesting entry into the PD phase, FTA must respond in writing within 45 days whether the information was sufficient for entry. If FTA's correspondence indicates the information was sufficient and the New Starts, Small Starts or Core Capacity project enters PD, FTA extends pre-award authority at that time to the project sponsor to incur costs for PD activities. PD activities include the work necessary to complete the environmental review process and as much engineering and design activities as the project sponsor believes are necessary to support the environmental review process. Upon completion of the environmental review process with a combined FEIS/ROD, ROD, FONSI, or CE determination by FTA for a New Starts, Small Starts, or Core Capacity Improvement project, FTA extends pre-award authority to the project sponsor to incur costs for as much engineering and design as needed to develop a reasonable cost estimate and financial plan for the project, utility relocation, and real property acquisition and associated relocations for any property acquisitions not already accomplished as a separate project for hardship or protective purposes or right-of-way under 49 U.S.C. 5323(q).

For Small Starts projects, upon completion of the environmental review process and confirmation from FTA that the overall project rating is at least a Medium, FTA extends pre-award authority for vehicle purchases. Upon receipt of a letter notifying a New Starts or Core Capacity project sponsor of the project's approval into the engineering phase, FTA extends pre-award authority for vehicle purchases as well as any remaining engineering and design, demolition, and procurement of long lead items for which market conditions play a significant role in the acquisition price. The long lead items include, but are not limited to, procurement of rails, ties, and other specialized equipment, and commodities.

Please contact the FTA Regional Office for a determination of activities not listed here, but which meet the intent described above. FTA provides this pre-award authority in recognition of the long-lead time and complexity involved with purchasing vehicles as well as their relationship to the “critical path” project schedule. FTA cautions grantees that do not currently operate the type of vehicle proposed in the project about exercising this pre-award authority. FTA encourages these sponsors to wait until later in the process when project plans are more fully developed. FTA reminds project sponsors that the procurement of vehicles must comply with all Federal requirements, including, but not limited to, competitive procurement practices, the Americans with Disabilities Act, Disadvantaged Business Enterprise program requirements and Buy America. FTA encourages project sponsors to discuss the procurement of vehicles with FTA in regard to Federal requirements before exercising pre-award authority. Because there is not a formal engineering phase for Small Starts projects, FTA does not extend pre-award authority for demolition and procurement of long lead items. Instead, this work must await receipt of a construction grant award or an expedited grant agreement.

a. Real Property Acquisition

As stated above, FTA extends pre-award authority for the acquisition of real property and real property rights for CIG projects (New or Small Starts or Core Capacity) upon completion of the environmental review process for that project. The environmental review process is completed when FTA signs a combined FEIS/ROD, ROD, FONSI, or makes a CE determination. With the limitations and caveats described below, real estate acquisition may commence, at the project sponsor's risk. To maintain eligibility for a possible future FTA grant award, any acquisition of real property or real property rights must be conducted in accordance with the requirements of the Uniform Relocation Assistance and Real Property Acquisition Policies Act (URA) and its implementing regulations, 49 CFR part 24. This pre-award authority is strictly limited to costs incurred: (i) To acquire real property and real property rights in accordance with the URA regulation; and (ii) to provide relocation assistance in accordance with the URA regulation. This pre-award authority is limited to the acquisition of real property and real property rights that are explicitly identified in the draft environmental impact statement (DEIS), FEIS, environmental assessment (EA), or CE documentation, as needed for the selected alternative that is the subject of the FTA-signed combined FEIS/ROD, ROD, FONSI, or CE determination. This pre-award authority regarding property acquisition that is granted at the completion of the environmental review process does not cover site preparation, demolition, or any other activity that is not strictly necessary to comply with the URA, with one exception—namely when a building that has been acquired, vacated, and awaits demolition poses a potential fire safety hazard or other hazard to the community in which it is located, or is susceptible to unauthorized occupants. Demolition of the building is also covered by this pre-award authority upon FTA's written agreement that the adverse condition exists. Pre-award authority for property acquisition is also provided when FTA makes a CE determination for a protective buy or hardship acquisition in accordance with 23 CFR 771.118(d)(3). Pre-award authority for property acquisition is also provided when FTA completes the environmental review process for the acquisition of right-of-way as a separate project in accordance with 49 U.S.C. 5323(q). When a tiered environmental review in accordance with 23 CFR 771.111(g) is used, pre-award authority is NOT provided upon completion of the first-tier environmental document except when the Tier-1 ROD or FONSI signed by FTA explicitly provides such pre-award authority for a particular, identified acquisition. Project sponsors should use pre-award authority for real property acquisition relocation assistance with a clear understanding that it does not constitute a funding commitment by FTA. FTA provides pre-award authority upon completion of the environmental review process for real property acquisition and relocation assistance for displaced persons and businesses in accordance with the requirements of the URA.

b. Reimbursement of Costs Incurred Under Pre-Award Authority

Although FTA provides pre-award authority for property acquisition, long lead items, demolition, utility relocation, and vehicle purchases upon completion of the environmental review process, FTA does not award Federal funding for these activities conducted under pre-award authority until the project receives a CIG program construction grant. This is to ensure that Federal funds are not risked on a project whose advancement into construction is not yet assured.

c. National Environmental Policy Act (NEPA) Activities

NEPA requires that certain projects proposed for FTA funding assistance be subjected to a public and interagency review of the need for the project, its environmental and community impacts, and alternatives to avoid and reduce adverse impacts. Projects of more limited scope also need a level of environmental review to determine whether there are significant environmental impacts or confirmation that a CE applies. FTA's regulation titled “Environmental Impact and Related Procedures,” at 23 CFR part 771 states that the costs incurred by a grant applicant for the preparation of environmental documents requested by FTA are eligible for FTA financial assistance (23 CFR 771.105(f)). Accordingly, FTA extends pre-award authority for costs incurred to comply with NEPA regulations and to conduct NEPA-related activities, effective as of the earlier of the following two dates: (1) The date of the Federal approval of the relevant STIP or STIP amendment that includes the project or any phase of the project, or that includes a project grouping under 23 CFR 450.216(j) that includes the project; or (2) the date that FTA approves the project into the project development phase of the CIG program. The grant applicant must notify the FTA Regional Office to initiate the Federal environmental review process consistent with 23 CFR 771.111. NEPA-related activities include, but are not limited to, public involvement activities, historic preservation reviews, Section 4(f) evaluations, wetlands evaluations, and endangered species consultations. This pre-award authority is strictly limited to costs incurred to conduct the NEPA process and associated engineering, and to prepare environmental, historic preservation and related documents. When a New Starts, Small Starts, or Core Capacity project is granted pre-award authority for the environmental review process, the reimbursement for NEPA activities conducted under pre-award authority may be sought at any time through Section 5307 (Urbanized Area Formula Program) or the flexible highway programs (e.g., Surface Transportation Program or Congestion Mitigation and Air Quality Improvement Program). Reimbursement from the Section 5309 CIG program for NEPA activities conducted under pre-award authority is provided only for expenses incurred after entry into the project development phase and only once a construction grant agreement is signed. As with any pre-award authority, FTA reimbursement for costs incurred is not guaranteed and recipients may not start activities and incur costs under pre-award authority for property acquisition, demolition, construction, and acquisition of vehicles, equipment, or construction materials until the environmental review process is complete.

d. Other Activities Requiring Letter of No Prejudice (LONP)

Except as discussed in paragraphs i through iii above, a CIG project sponsor must obtain a written LONP from FTA before incurring costs for any activity not covered by pre-award authority. To obtain an LONP, an applicant must submit a written request accompanied by adequate information and justification to the appropriate FTA Regional Office, as described in B. below.

For more information about the Fixed Guideway Capital Investment Grants program, including LONP policy, real property acquisition, and reimbursement of costs incurred under Pre-Award Authority, contact Elizabeth Day, Office of Capital Project Development, at (202) 366-5159 or elizabeth.day@dot.gov.

For more information about the Fixed Guideway Capital Investment Grants program, including National Environmental Policy Act (NEPA) activities, contact Megan Blum, Office of Environmental Programs, at (202) 366-0463 or megan.blum@dot.gov.

B. Letter of No Prejudice (LONP) Policy

1. Policy

LONP authority allows an applicant to incur costs on a project utilizing non-Federal resources, with the understanding that the costs incurred subsequent to the issuance of the LONP may be reimbursable as eligible expenses or eligible for credit toward the local match should FTA approve the project for a grant award at a later date. LONPs are applicable to projects and project activities not covered by automatic pre-award authority. The majority of LONPs will be for Section 5309 CIG program projects undertaking activities not covered under automatic pre-award authority. LONPs may be issued for formula funds beyond the life of the current authorization or FTA's extension of automatic pre-award authority; however, the LONP is limited to a five-year period, unless otherwise authorized in the LONP. Receipt of Federal funding under any program is not implied or guaranteed by an LONP.

2. Conditions and Federal Requirements

The conditions and requirements for pre-award authority specified in section V.4ii and V.4.iii above apply to all LONPs. Because project implementation activities may not be initiated before completion of the environmental review process, FTA will not issue an LONP for such activities until the environmental review process has been completed with a combined FEIS/ROD, ROD, FONSI, or CE determination.

3. Request for LONP

Before incurring costs for project activities not covered by automatic pre-award authority, the project sponsor must first submit a written request for an LONP, accompanied by adequate information and justification, to the appropriate regional office and obtain written approval from FTA. FTA approval of an LONP is determined on a case-by-case basis. Federal funding under the CIG program is not implied or guaranteed by an LONP. Specifically, when requesting an LONP, the applicant shall provide the following items:

a. Description of the activities to be covered by the LONP.

b. Justification for advancing the identified activities. The justification should include an accurate assessment of the consequences to the project scope, schedule, and budget should the LONP not be approved.

c. Allocated level of risk and contingency for the activity requested.

C. FY 2020 Annual List of Certifications and Assurances

Section 5323(n) requires FTA to publish annually a list of all certifications required under Chapter 53 concurrently with the publication of this annual apportionment notice. The 2020 version of FTA's Certifications and Assurances is available on FTA's website. FTA cannot make an award or an amendment to an award unless the recipient has executed the latest version of FTA's Certifications and Assurances. FTA encourages Recipients of formula funding to execute the new Certifications and Assurances within 90 days of this notice, to prevent any delay to application processing.

D. Civil Rights Requirements

1. Civil Rights Overview

Recipients must carry out provisions of the Americans with Disabilities Act (ADA) of 1990, Section 504 of the Rehabilitation Act of 1973, as amended, and the Department of Transportation's implementing regulations at 49 CFR parts 27, 37, 38, and 39. FTA's ADA Circular (4710.1) provides guidance for carrying out the regulatory requirements of the ADA. In addition, recipients must regularly prepare and submit civil rights program plans and reports to establish voluntary compliance and document policies and practices in the areas of Title VI, Disadvantaged Business Enterprise (DBE) and Equal Employment Opportunity (EEO). The current status of civil rights programs can be found on each recipient's Civil Rights Information page of TrAMS. New program plans and program updates must be submitted there as well. Before submitting an application for funding, recipients should consult with FTA Circulars and guidance and submit the following programs, as applicable:

a. Title VI of the Civil Rights Act of 1964: The Department of Transportation's Title VI implementing regulations are found in 49 CFR part 21. FTA's Title VI Circular (4702.1B) provides guidance for carrying out the regulatory requirements.

b. Disadvantaged Business Enterprise (DBE) program and triennial goal: The Department of Transportation's DBE implementing regulations are found in 49 CFR part 26 and provide guidance for carrying out the regulatory requirements and developing the triennial DBE goal.

c. Title VII of the Civil Rights Act of 1964, Equal Employment Opportunity (EEO): The Department of Transportation's EEO implementing regulations are found in 49 CFR part 21. FTA's EEO Circular (4704.1A) provides guidance for carrying out the regulatory requirements.

2. Disadvantaged Business Enterprise Program—Transit Vehicle Manufacturers (TVM)

Recipients exercising pre-award authority are expected to comply with the DBE regulations. The Department of Transportation's DBE program helps small businesses owned by socially and economically disadvantaged individuals to compete in the marketplace, and is designed to support the people who create jobs—our nation's entrepreneurs. Pursuant to 49 CFR 26.49, transit vehicle manufacturers (TVMs) “must establish and submit for FTA's approval an annual overall percentage goal”; only those TVMs “listed on FTA's certified list of transit vehicle manufacturers, or that have submitted a goal methodology to FTA that has been approved or has not been disapproved, at the time of solicitation are eligible to bid.” Recipients may, with prior FTA approval, establish project-specific goals for DBE participation in the procurement of transit vehicles in lieu of using a certified TVM.

Prior to accepting bids, it is the recipient's responsibility to ensure that the TVM has submitted a goal to FTA and FTA has either approved it or not disapproved it. A recipient may verify a TVM has submitted a DBE goal to FTA for its review by checking the FTA Eligible TVMs List located on FTA's website at www.transit.dot.gov/tvm. A recipient may request from FTA verification of the eligibility of a TVM not included on FTA's website. Please email your request to FTATVMSubmissions@dot.gov, and FTA will respond via email within five business days. Failure by a recipient to verify a TVM's eligibility to bid on an FTA-assisted contract prior to award cannot be cured after award of the contract and will likely result in FTA declining to provide federal funding for the vehicle procurement.

Furthermore, recipients are also reminded of the requirement in 49 CFR 26.49(a)(4), which states, “FTA recipients are required to submit within 30 days of making an award, the name of the successful bidder, and the total dollar value of the contract in the manner prescribed in the grant agreement.” Recipients are to report to FTA all vehicle purchases, post-production alterations, and retrofit procurements within the 30 days of award using the electronic Transit Vehicle Award Reporting form found at www.transit.dot.gov/dbe. Vehicles purchased solely for personal use and/or purchased “off the lot” do not need to be reported. Recipients that receive the funds directly from FTA must report on behalf of their subrecipients as well. Only the subrecipients that received the federal funds directly from FTA are responsible for reporting the vehicle awards to FTA.

E. Consolidated Planning Grants

FTA and FHWA planning funds under both the Metropolitan Planning and State Planning and Research Programs can be consolidated into a single consolidated planning grant, awarded by either FTA or FHWA. The Consolidated Planning Grants (CPG) eliminate the need to monitor individual fund sources, if several have been used, and ensures that the oldest funds will always be used first.

Under the CPG, States can report metropolitan planning program expenditures, to comply with the Uniform Guidance 2 CFR 200, subpart F, for both FTA and FHWA under the Catalogue of Federal Domestic Assistance number for FTA's Metropolitan Planning Program (20.505). Additionally, for States with an FHWA Metropolitan Planning (PL) fund-matching ratio greater than 80 percent, the State can waive the 20 percent local share requirement, with FTA's concurrence, to allow FTA funds used for metropolitan planning in a CPG to be granted at the higher FHWA rate. For some States, this Federal match rate can exceed 90 percent.

States interested in transferring planning funds between FTA and FHWA should contact the FTA Regional Office or FHWA Division Office for more detailed procedures. The FHWA Order 4551.1 dated August 12, 2013, on “Funding Transfers to Other Agencies and Among Title 23 Programs” provides guidance and more detailed information.

For more information on Consolidated Planning Grants, contact Ann Souvandara, Office of Budget and Policy, FTA, at (202) 366-0649 or ann.souvandara@dot.gov.

F. Grant Application Procedures

All applications for FTA funds should be submitted to the appropriate FTA Office. All applications are filed electronically. FTA continues to award and manage grants and cooperative agreements using the Transit Award Management System (TrAMS). To access TrAMS, contact your FTA Office. Resources on using TrAMS can be found on FTA's website at https://www.transit.dot.gov/TrAMS.

FTA regional staff are responsible for working with grantees to review and process grant applications. For an application to be considered complete and ready for FTA to assign a Federal Award Identification Number (FAIN), enabling submission in TrAMS, and submission to the Department of Labor, when applicable, the following requirements must be met:

a. Recipient has registered in the System for Award Management (SAM) and its registration is current with an active status. To register an entity or check the status and renew registration, visit the SAM website at https://www.sam.gov/SAM/.

b. Recipient's contact information, including Dun and Bradstreet Data Universal Numbering System (DUNS), is correct. To request a DUNS number, call Dun & Bradstreet at 1-866-705-5711 or visit the website at http://fedgov.dnb.com/webform.

c. Recipient has properly submitted its annual certifications and assurances.

d. Recipient's Civil Rights submissions are current.

e. After October 1, 2018, the grantee has a Transit Asset Management plan in place that meets the requirements of 49 CFR part 625, or is covered by a compliant Group Plan.

f. Documentation is on file to support recipient's status as either a designated recipient for the program and area or a direct recipient.

g. Funding is available, including any flexible funds included in the budget, and split letters or suballocation letters on file, where applicable, to support the amount requested in the grant application.

h. The activity is listed in a currently approved Transportation Improvement Program (TIP); Statewide Transportation Improvement Program (STIP), or Unified Planning Work Program (UPWP).

i. All eligibility issues are resolved.

j. Required environmental findings are made.

k. The application contains a well-defined scope of work, including at least one project with accompanying project narratives, at least one budget scope code and one activity line item, Federal and non-Federal funding amounts, and milestones.

l. Major Capital Projects as defined by 49 CFR part 633 “Project Management Oversight” must document FTA has reviewed the project management plan and provided approval.

m. Milestone information is complete. FTA will also review status of other open award reports to confirm financial and milestone information is current on other open awards.

FTA must also provide Congressional notification before awarding competitive grants.

Other important issues that impact FTA grant processing activities in addition to the list above are discussed below.

a. Award Budgets—Scope Codes and Activity Line Items (ALI) Codes; Financial Purpose Codes

FTA uses Scope and ALI Codes in the award budgets to track disbursements, monitor program trends, report to Congress, and to respond to requests from the Inspector General and the Government Accountability Office, as well as to manage grants. The accuracy of the data is dependent on the careful and correct use of codes.

b. Designated and Direct Recipients Documentation

For its formula programs, FTA primarily apportions funds to the designated recipient in the large UZAs (areas over 200,000), or for areas under 200,000 (small UZAs and rural areas), it apportions the funds to the Governor, or its designee (e.g., State DOT). Depending on the program, as described in the individual program sections found in Section IV of this notice, further suballocation of funds may be permitted to eligible recipients who may then apply directly to FTA for the funding as direct recipients.

For the programs in which FTA may make grants to eligible direct recipients, other than the designated recipient(s), recipients are reminded that documentation must be on file to support: (1) The status of the recipient either as a designated recipient or direct recipient; and (2) the allocation of funds to the direct recipient.

Documentation to support existing designated recipients for the UZA must also be on file at the time of the first application in FY 2020. Split letters and/or suballocation letters (Governor's Apportionment letters), must also be on file to support grant applications for direct recipients. Once suballocation letters for FY 2020 funding are finalized, they should be uploaded as part of the application into TrAMS.

The Direct Recipient is required to upload to TrAMS a copy of the suballocation letter (Letter) indicating their allocation of funding, for the appropriate fund program, when the applicant transmits their application for initial review. The Letter must be signed by the Designated Recipient, or as applicable in accordance with their planning requirements. If there are two Designated Recipients, both entities must sign the Letter. The Letter must: (1) Indicate the allocations to the respective Direct Recipients listed in the letter; (2) incorporate language above the signatories to reflect this agreement; and (3) make clear that the Direct Recipient will assume any/all responsibility associated with the award for the funds. When drafting the Letter, Designated Recipients may use the template language below:

“As identified in this Letter, the Designated Recipient(s) authorize the reassignment/reallocation of [enter fund source; e.g. Section 5307 funds] to the Direct Recipient(s) named herein. The undersigned agree to the amounts allocated/reassigned to each direct Recipient. Each Direct Recipient is responsible for its application to the Federal Transit Administration to receive such funds and assumes the responsibilities associated with any award for these funds.”

The contents of this document do not have the force and effect of law and are not meant to bind the public in any way. This document is intended only to provide clarity to the public regarding existing requirements under the law or agency policies. Grantees should refer to applicable regulations and statutes referenced in this document.

K. Jane Williams,
Acting Administrator.

[FR Doc. 2020-11946 Filed 6-2-20; 8:45 am]

BILLING CODE 4910-57-P